DEPARTMENT OF COMMERCE

National Oceanic and Atmospheric Administration

[RTID 0648-XX045]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would exempt five commercial fishing vessels from limited access sea scallop regulations in support of a study examining the feasibility of transplanting scallops from high density areas to areas of lower density using bottom trawls. Regulations under the Magnuson-Stevens Fishery Conservation and Management Act require publication of this notification to provide interested parties the opportunity to comment on applications for proposed Exempted Fishing Permits.

DATES: Comments must be received on or before March 27, 2020.

ADDRESSES: You may submit written comments by any of the following methods:

• Email: nmfs.gar.efp@noaa.gov. Include in the subject line “DA19-109 Nordic Fisheries Transplanting EFP.”

• Mail: Michael Pentony, Regional Administrator, NMFS, Greater Atlantic Regional Fisheries Office, 55 Great Republic Drive, Gloucester, MA 01930. Mark the outside of the envelope “DA19-109 Nordic Fisheries Transplanting EFP.”

FOR FURTHER INFORMATION CONTACT: Shannah Jaburek, Fishery Management Specialist, 978-282-8456.

SUPPLEMENTARY INFORMATION: Nordic Fisheries submitted an initial Exempted Fishing Permit (EFP) application on November 21, 2019, in collaboration with Empire Fisheries, Quinn Fisheries, Fulcher Trawling, and the Coonamessett Farm Foundation (CFF). The application was considered complete on January 23, 2020. The applicant's overarching research objective is to determine the operational and economic feasibility of using bottom trawls to transfer scallops short distances underwater and transplant them from areas of high scallop densities to lower density areas. This is in response to a large cohort of scallops in the Nantucket Lightship South Rotational Area that is currently in deeper water and has shown significantly slower growth compared to similar cohorts in less-dense, shallower areas. The applicant wants to determine if, by moving scallops to areas of lower scallop density, those scallops grow larger due to less competition over food resources. The applicant would research the optimal bottom trawl gear specifications (e.g., sweep length, mesh size, need for chafing gear, etc.) for transporting scallops, as well as determine the optimal quantity of scallops to transfer and associated operational costs.

To enable this research, Nordic Fisheries is requesting exemptions for five commercial fishing vessels from: The Atlantic sea scallop crew size restrictions at § 648.60(c); observer program requirements at § 648.11(g); restrictions on the use of trawl nets at § 648.51(f); maximum sweep, minimum mesh size, chafing gear, and other gear obstructions at § 648.51(a)(1), (2)(ii), (3)(i), and (3)(ii), respectively; Georges Bank regulated mesh area mimum mes size and gear restrictions at § 648.80(a)(4)(i); Nantucket Lightship South Rotational Areas at § 648.60(e); and access area program requirements at § 648.59(a)(1)-(3), (b)(2), (b)(4). The EFP would also grant vessels a temporary exemption from possession limits and minimum size requirements specified in part 648, subsections B and D through O, and § 697.20 for sampling purposes. The applicants need these exemptions to deploy bottom trawl gear in areas where the gear is not allowed. Participating vessels need crew size waivers to accommodate researchers and possession waivers for sampling purposes. The project would be exempt from the sea scallop observer program requirements because activities conducted on the trip are not consistent with normal fishing operations. Researchers from CFF would accompany each trip taken under the EFP.

This project would conduct up to five trips using five different vessels. The length of each trip would be approximately 3 days-at-sea (DAS), for an estimated 15 DAS. Transplanting would occur from April-June 2020. The applicant intends to catch and transplant 10,000,000 scallops.

All tows to harvest scallops for transplanting would be conducted with one trawl for a duration of approximately 10 minutes using an average tow speed of 2.5 knots for an estimated 150 tows. Each codend and extension would be calibrated volumetrically using colored ropes woven in the meshes on top to estimate catch. In addition to the colored ropes, some vessels will use net sensors to indicate net fullness. Meshes on the trawl codend would range between 4 and 5.5 inches (10.2 and 14 cm) and net liners would be no smaller than 1.9 inches (50 mm). The trawl sweep length would vary but would not exceed 150 feet (45.7 m). The scallops would be harvested from the large cohort of slow growing scallops in the deep water portion of the Nantucket Lightship South Rotational Area and transplanted to an area that Atlantic Sea Scallop Framework Adjustment 32 (85 FR 9705; February 20, 2020) is proposing to close to support projects of this nature.

The first tow of each trip would be brought on deck to check the trawl volume calibration, measure and take biological samples of the scallops, and count and measure the bycatch. All remaining tows for the trip would be brought directly to the transplant site. Once there, the nets would be brought to the surface to estimate volume and then the scallops would be released into the water through the codend. With the exception of samples retained for further processing for scientific purposes, no catch would be retained for longer than needed to conduct sampling, and no catch would be landed for sale. All catch estimates for the project are listed in the table below. Bycatch estimates are derived from dredge work in the area, but based on interviews with scallop trawl captains, the bycatch rates are anticipated to be close to zero due to high densities of scallops and short tow duration. All fishing activity would be limited to catching and transplanting scallops.

Table 1—Estimated Catch, by Species, for CFF EFP Request
Common name | Estimated weight (lb) | Estimated weight (kg)
Sea Scallop | 12,000 | 5,443
Yellowtail Flounder | 20 | 9
Winter Flounder | 20 | 9
Windowpane Flounder | 60 | 27
Monkfish | 100 | 45
Other Fish | 120 | 54
Barndoor Skates | 20 | 9
Northeast Skate Complex | 500 | 227

The applicants would work with other research groups funded through the Scallop Research Set-Aside Program and use data collected from both the harvest and transplant sites during routine surveys in May-July 2020 and 2021 to compare growth and abundance.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 9, 2020.
Karyl K. Brewster-Geisz,
Acting Director, Office of Sustainable Fisheries, National Marine Fisheries Service.

[FR Doc. 2020-05048 Filed 3-11-20; 8:45 am]

BILLING CODE 3510-22-P